ENVIRONMENTAL PROTECTION AGENCY

40 CFR Part 52

[TX-107-2-7424a; FRL-6567-5]

Approval and Promulgation of Implementation Plans; Texas; Control of Air Pollution From Volatile Organic Compounds, Vent Gas Control and Offset Lithographic Printing Rules

AGENCY: Environmental Protection Agency (EPA).

ACTION: Direct final rule.

SUMMARY: The EPA is taking direct final action on revisions to the Texas State Implementation Plan (SIP). This rulemaking covers three separate actions: Approving the Revisions to the 30 TAC, Chapter 115, Control of Air Pollution from Volatile Organic Compounds (VOC), Subchapter B, Division 2, Vent Gas Control (bakery oven emissions) rule as meeting our Reasonably Available Control Technology (RACT) requirements for controlling the VOC emission from such major sources in the Dallas/For Worth (D/FW) ozone nonattainment area; Converting EPA's limited approval of certain sections in 30 TAC, Chapter 115, Control of Air Pollution from VOC, Subchapter B, Division 2, Vent Gas Control (bakery oven emissions) rule to a full approval as meeting the RACT requirements for controlling the VOC emission from such major sources in the D/FW ozone nonattainment area. By this approval action, we are saying that Texas will be implementing the RACT for VOC emissions resulting from operation of the bakeries in the D/FW area; and Approving that the revisions to the 30 TAC, Chapter 115, Control of Air Pollution from Volatile Organic Compounds (VOC), Subchapter E, Division 4, Offset Lithography Printing as meeting our RACT requirements for controlling the VOC emission from such major sources in the D/FW ozone nonattainment area. By this approval action, we are saying that Texas will be implementing the RACT for VOC emissions resulting from operation of the offset lithography printing sources in the D/FW area.

The EPA is approving these SIP revisions to regulate emissions of VOCs as meeting RACT in accordance with the requirements of the Federal Clean Air Act (the Act).

DATES: This rule is effective on June 5, 2000 without further notice, unless EPA receives adverse comment by May 8, 2000. If EPA receives such comment, EPA will publish a timely withdrawal in the Federal Register informing the public that this rule will not take effect.

ADDRESSES: Written comments on this action should be addressed to Mr. Thomas H. Diggs, Chief, Air Planning Section (6PD-L), at the EPA Region 6 Office listed below. Copies of documents relevant to this action including the Technical support Document (TSD) are available for public inspection during normal business hours at the following locations. Anyone wanting to examine these documents should make an appointment with the appropriate office at least two working days in advance.

Environmental Protection Agency, Region 6, Air Planning Section (6PD-L), 1445 Ross Avenue, Dallas, Texas 75202-2733.

Texas Natural Resource Conservation Commission, Office of Air Quality, 12124 Park 35 Circle, Austin, Texas 78753.

FOR FURTHER INFORMATION CONTACT: Mr. Alan Shar, P.E., Air Planning Section (6PD-L), EPA Region 6, 1445 Ross Avenue, Dallas, Texas 75202-2733, telephone (214) 665-6691.

SUPPLEMENTARY INFORMATION:

Table of Contents

1. What action is EPA taking?

2. What action is EPA not taking in this rulemaking?

3. Why do we regulate VOCs?

4. Where can I find EPA guidelines on bakery oven emissions?

5. Where can I find EPA guidelines on offset lithographic printing?

6. What are the bakery oven emissions rule changes?

7. What are the offset lithographic printing rule changes?

8. What is a nonattainment area?

9. What are Alternative Control Techniques (ACTs)?

10. What is Reasonably Available Control Technology (RACT)?

11. What is a State Implementation Plan?

12. What is the Federal approval process for a SIP?

13. What does Federal approval of a SIP mean to me?

14. What areas in Texas will this action affect?

Throughout this document “we,” “us,” and “our” means EPA.

1. What Action Is EPA Taking?

On March 16, 1999, the Governor of Texas submitted a rule revision to the Chapter 115, “Control of Air Pollution From Volatile Organic Compounds,” as a revision to the SIP for bakery operations and offset lithographic printing operations. On May 22, 1997, EPA gave limited approval to sections 115.122(a)(3), 115.126(a)(4), 115.126(a)(5), 115.127(a)(5) and 115.129(2)-115.129(5) of Chapter 115 concerning to bakery operations. See 64 FR 3841. For bakery operations, the TNRCC submitted on March 16, 1999, revisions to sections 115.122, 115.123, and 115.126. This rulemaking will approve revisions to Sections 115.122 , 115.123, 115.126 in the D/FW ozone nonattainment area. Specifically, we are approving revisions to sections 115.122(a)(3)(B), 115.122(a)(3)(C), 115.122(a)(3)(E)(ii), 115.123(a)(1) and (2), a new section 115.126(a)(1)(C) and (D), and revisions to 115.126(a)(3)(A) and (B) concerning bakery oven emissions in the D/FW ozone nonattainment area. We are converting the limited approval to a full approval of sections 115.122(a)(3), 115.126(a)(4), 115.126(a)(5), 115.127(a)(5) and 115.129(2)-115.129(5).

For offset lithographic printing operations, this rulemaking will approve revisions to sections 115.440, 115.443, 115.446, and 115.449 in the D/FW ozone nonattainment area. We are also, approving a new section 115.440, revisions to section 115.443, removal of section 115.446(2)(D), revisions to section 115.446(8), and section 115.449(b) concerning offset lithographic printing operations in the D/FW ozone nonattainment area.

Originally, The TNRCC submitted the offset lithographic printing rules to us in August 1993, and we approved those rules in a limited approval fashion. See 62 FR 27964, published on May 22, 1997. Later on, we approved these rules, among many others, in a full approval fashion as a part of the 15 percent Rate of Progress contingency plan for the D/FW ozone nonattainment area. See 64 FR 3841, published on January 26, 1999.

Previously, the D/FW ozone nonattainment area was classified as moderate. The VOC major source threshold for a moderate area is 100 tpy. Texas submitted and we approved a declaration that there were no major (100 tpy) offset lithography printing sources in the D/FW area. See 61 FR 55894, published on October 30, 1996.

The D/FW is now classified as a serious ozone nonattainment area. The VOC major source threshold for a serious ozone nonattainment area is 50 tpy. Texas has now revised its VOC rules to insure that any offset lithography printing sources greater than 50 tpy will have to implement RACT.

In this document, we are now approving revisions to the Texas SIP concerning control of VOC emissions from bakery oven emissions and offset lithographic printing provisions as meeting the RACT requirements for controlling the VOC emissions from such operations in the D/FW ozone nonattainment area. For more information on the SIP revision and EPA's RACT evaluation, please refer to our TSD dated November 1999.

2. What Action Is EPA Not Taking in This Rulemaking?

In this document, we are not acting on the following: (1) attainment demonstration plan for the D/FW area, (2) RACT regulations for controlling VOCs from bakeries in ozone nonattainment areas other than D/FW area, and (3) RACT regulations for controlling VOCs from offset lithographic printing operations in ozone nonattainment areas other than D/FW area.

3. Why Do We Regulate VOCs?

Oxygen in the atmosphere reacts with VOCs and Oxides of Nitrogen to form ozone, a key component of urban smog. Inhaling even low levels of ozone can trigger a variety of health problems including chest pains, coughing, nausea, throat irritation, and congestion. It also can worsen bronchitis and asthma. Exposure to ozone can also reduce lung capacity in healthy adults.

4. Where Can I Find EPA Guidelines on Bakery Oven Emissions?

You can find our guidelines on bakery oven emissions in the document number EPA-453/R-92-017, “Alternative Control Technology for Bakery Oven Emissions.” You can also refer to the Memorandum from John S. Seitz, Director of Air Quality Planning and Standards, dated February 15, 1995 (Bakery Memo), that addresses issues concerning bakery RACT requirements. We have included a copy of the Bakery Memo in our TSD dated November 1999, for reference purposes.

5. Where Can I Find EPA Guidelines on Offset Lithographic Printing?

You can find our guidelines on offset lithographic printing in the document number EPA-453/R-94-054, “Alternative Control Techniques Document: Offset Lithographic Printing.” The TNRCC submitted its Offset Lithography Printing rules to us in August 1993. We have evaluated the Texas Offset Lithography Printing rules against our guidance document and have determined that the Texas Offset Lithography Printing rules meet our RACT requirement for such sources.

6. What Are the Bakery Oven Emissions Rule Changes?

The intended purpose of this rule is to reduce VOC emissions and comply with the RACT requirements. The previously limited approved bakery rules, 62 FR 27965, May 22, 1997, called for 30 percent control in the H/G, B/PA, and D/FW areas, and we did not consider the 30 percent control as meeting the RACT.

The proposed rule revision calls for a minimum of 80 percent control in the D/FW area and we are considering the 80 percent control as meeting the RACT. Specifically, the revisions to Chapter 115 will modify the vent gas control rule by: (1) lowering the applicability threshold from 100 to 50 tpy for bakeries in the D/FW ozone nonattainment area, and (2) prohibiting the banking of emission reductions in the 30-90 percent range for major source bakeries in the D/FW ozone nonattainment area. Bakeries in the D/FW ozone nonattainment area must comply with this rule as soon as practicable, but no later than December 31, 2000. See 30 TAC Section 115.126(4)(A). You can find the appropriateness of a compliance date of December 31, 2000 (beyond the November 15, 1999, attainment deadline), in the VOC policy Memorandum from J. Craig Potter, Assistant Administrator for Air and Radiation, dated August 7, 1986, titled “Policy on SIP Revisions Requesting Compliance Date Extensions for VOC sources” (Extension Memo). We have included a copy of the Extension Memo in our TSD, dated November 1999, for reference purposes. The Extension Memo provides that the change in a deadline for a VOC source must be expeditious and practicable. EPA generally views two years as an acceptable time frame to implement RACT requirements. The Texas deadline is less than two years. We are of the opinion that the compliance date of December 31, 2000, time frame is practicable compared with the attainment demonstration dates of other severe ozone nonattainment areas in the country. We will closely examine and question any attempts to extend the compliance date beyond the December 31, 2000, for such VOC sources in the D/FW area in future.

Originally, we acted on the Texas 30 TAC, Chapter 115, Control of Air Pollution from Volatile Organic Compounds (VOC), Subchapter B, Division 2, Vent Gas Control (bakery oven emissions) rule in a limited approval fashion, 62 FR 27965, May 22, 1997, on the basis that the limited approval would strengthen the SIP. The May 22, 1997, final rulemaking gave limited approval to the Texas rule, which among other things, allowed 30 percent VOC control for these sources. The May 22, 1997, final rulemaking also stated that the EPA would be publishing a determination regarding RACT in a future Federal Register action. In addition, the Bakery Memo states that RACT should result in VOC emissions reductions of 80 to 95 percent for large bakery operations. The Texas rule revision (a) requires a minimum of 80 percent reduction in VOC emissions from the bakery's 1990 baseline emission inventory (see Section 115.122(a)(3)(B)), and (b) prohibits the banking of emission reductions in the 30-90 percent range for major source bakeries in the D/FW ozone nonattainment area. For these reasons, we are of the opinion that this rule now meets the requirements of the RACT for the D/FW area and are approving these rule with its revisions as RACT.

For detailed evaluation of the specific provisions of the bakery oven emissions changes, please see pages 2 through 5 of our TSD dated November 1999.

7. What Are the Offset Lithographic Printing Rule Changes?

The intended purpose of this rule is to reduce VOC emissions and comply with the requirements of the RACT. Specifically, this rule applies to sources located or operating in the D/FW ozone nonattainment area. This proposed rule revision will: (1) create a new Section 115.440 concerning offset lithographic printing definitions, and (2) lower the applicability threshold from 100 to 50 tpy for offset lithographic printing operations in the D/FW ozone nonattainment area. The offset lithographic printing operations in the D/FW ozone nonattainment area must comply with this rule as soon as practicable, but no later than December 31, 2000. See 30 TAC Section 115.449(b). You can find the appropriateness of a compliance date of December 31, 2000 (beyond the November 15, 1999, attainment deadline), in the VOC policy Memorandum from J. Craig Potter, Assistant Administrator for Air and Radiation, dated August 7, 1986, titled “Policy on SIP Revisions Requesting Compliance date Extensions for VOC sources” (Extension Memo). We have included a copy of the Extension Memo in our TSD, dated November 1999, for reference purposes. The Extension Memo provides that the change in a deadline for a VOC source must be expeditious and practicable. EPA generally views two years as an acceptable time frame to implement RACT requirements. The Texas deadline is less than two years. We are of the opinion that the compliance date of December 31, 2000, time frame is practicable compared with the attainment demonstration dates of other severe ozone nonattainment areas in the country. We will closely examine and question any attempts to extend the compliance date beyond the December 31, 2000, for such VOC sources in the D/FW area in future.

Other revisions are administrative in nature, e.g., changing the word “section” to “division,” and we are approving them for the D/FW ozone nonattainment area. As we stated in the summary section of this document, the TNRCC submitted its Offset Lithography Printing rules to us in August 1993. For rulemaking history of the Texas Offset Lithography Printing rules, please refer to section 1 of this document. For detailed evaluation of the specifics of the offset lithographic printing rule, please see pages 6 and 7 of our TSD dated November 1999.

8. What Is a Nonattainment Area?

A nonattainment area is a geographic area in which the level of a criteria air pollutant is higher than the level allowed by Federal standards. A single geographic area may have acceptable levels of one criteria air pollutant but unacceptable levels of one or more other criteria air pollutants; thus, a geographic area can be attainment for one criteria pollutant and nonattainment for another criteria pollutant at the same time. It has been estimated that 60 percent of Americans live in nonattainment areas.

9. What Are Alternative Control Techniques (ACTs)?

Section 183(c) of the Act provides that we will issue technical documents which identify alternative controls for stationary sources of VOC which emit, when uncontrolled, 25 tpy or more of this pollutant. We have to revise and update these ACT documents as needed. We generate the information in the ACT documents from our papers, literature sources and contacts, control equipment vendors, engineering firms, and Federal, State, and local regulatory agencies. States can use information in the ACT to develop their Reasonably Available Control Technology regulations. Sections 3 and 4 of this document name the titles of EPA's ACT documents for bakery oven emissions and offset lithographic printing operations.

10. What Is Reasonably Available Control Technology?

We have defined RACT as the lowest emission limitation that a particular source can meet by applying a control technique that is reasonably available considering technological and economic feasibility. See 44 FR 53761, September 17, 1979. A state may choose to develop its own RACT requirements on a case by case basis, considering the economic and technical circumstances of an individual source. Section 172 of the Act contains general requirements for States to implement RACT in areas that do not meet the National Ambient Air Quality Standard (NAAQS). Section 182(b)(2) of the Act contains more specific requirements for moderate and above ozone nonattainment areas.

11. What Is a State Implementation Plan?

Section 110 of the Act requires States to develop air pollution regulations and control strategies to ensure that State air quality meets the National Ambient Air Quality Standards (NAAQS) that EPA has established. Under Section 109 of the Act, EPA established the NAAQS to protect public health. The NAAQS address six criteria pollutants. These criteria pollutants are: carbon monoxide, nitrogen dioxide, ozone, lead, particulate matter, and sulfur dioxide.

Each State must submit these regulations and control strategies to us for approval and incorporation into the federally enforceable SIP. Each State has a SIP designed to protect air quality. These SIPs can be extensive, containing State regulations or other enforceable documents and supporting information such as emission inventories, monitoring networks, and modeling demonstrations.

12. What Is the Federal Approval Process for a SIP?

When a State wants to incorporate its regulations into the federally enforceable SIP, the State must formally adopt the regulations and control strategies consistent with State and Federal requirements. This process includes a public notice, a public hearing, a public comment period, and a formal adoption by a state-authorized rulemaking body.

Once a State adopts a rule, regulation, or control strategy, the State may submit the adopted provisions to us and request that we include these provisions in the federally enforceable SIP. We must then decide on an appropriate Federal action, provide public notice on this action, and seek additional public comment regarding this action. If we receive adverse comments, we must address them prior to a final action.

Under section 110 of the Act, when we approve all State regulations and supporting information, those State regulations and supporting information become a part of the federally approved SIP. You can find records of these SIP actions in the Code of Federal Regulations at Title 40, part 52, entitled “Approval and Promulgation of Implementation Plans.” The actual State regulations that we approved are not reproduced in their entirety in the CFR but are “incorporated by reference,” which means that we have approved a given State regulation with a specific effective date.

13. What Does Federal Approval of a SIP Mean to Me?

A State may enforce State regulations before and after we incorporate those regulations into a federally approved SIP. After we incorporate those regulations into a federally approved SIP, both EPA and the public may also take enforcement action against violators of these regulations.

14. What Areas in Texas Will This Action Affect?

These rules we are approving today will affect the D/FW ozone nonattainment area. The D/FW area is classified as serious ozone nonattainment and includes the following counties: Collin, Dallas, Denton, and Tarrant.

If you are in one of these counties, you need to refer to these rules to find out if and how these rules will affect you.

The EPA is publishing this rule without prior proposal because we view this as a noncontroversial amendment and anticipate no adverse comments. However, in the “Proposed Rules” section of today's Federal Register publication, we are publishing a separate document that will serve as the proposal to approve the SIP revision if adverse comments are received. This rule will be effective on June 5, 2000 without further notice unless we receive adverse comment by May 8, 2000. If EPA receives adverse comments, we will publish a timely withdrawal in the Federal Register informing the public that the rule will not take effect. We will address all public comments in a subsequent final rule based on the proposed rule. We will not institute a second comment period on this action. Any parties interested in commenting must do so at this time.

Administrative Requirements

A. Executive Order 12866

The Office of Management and Budget (OMB) has exempted this regulatory action from Executive Order 12866, entitled “Regulatory Planning and Review.”

B. Executive Order 13132

Executive 13132, entitled “Federalism” (64 FR 43255, August 10, 1999) revokes and replaces Executive Order 12612, “Federalism,” and Executive Order 12875, “Enhancing the Intergovernmental Partnership.” Executive Order 13132 requires EPA to develop an accountable process to ensure “meaningful and timely input by State and local officials in the development of regulatory policies that have federalism implications.” “Policies that have federalism implications” is defined in the Executive Order to include regulations that have “substantial direct effects on the States, on the relationship between the national government and the States, or on the distribution of power and responsibilities among the various levels of government.” Under Executive Order 13132, EPA may not issue a regulation that has federalism implications, that imposes substantial direct compliance costs, and that is not required by statute, unless the Federal government provides the funds necessary to pay the direct compliance costs incurred by State and local governments, or EPA consults with State and local officials early in the process of developing the proposed regulation. The EPA also may not issue a regulation that has federalism implications and that preempts State law unless the Agency consults with State and local officials early in the process of developing the proposed regulation.

This final rule will not have substantial direct effects on the States, on the relationship between the national government and the States, or on the distribution of power and responsibilities among the various levels of government, as specified in Executive Order 13132, because the rule approves a State rule implementing a federal standard, and does not alter the distribution of power and responsibilities established in the Act. Thus, the requirements of section 6 of the Executive Order do not apply to this rule.

C. Executive Order 13045

Executive Order 13045, entitled “Protection of Children from Environmental Health Risks and Safety Risks” (62 FR 19885, April 23, 1997), applies to any rule that: (1) Is determined to be “economically significant” as defined under Executive Order 12866, and (2) concerns an environmental health or safety risk that EPA has reason to believe may have a disproportionate effect on children. If the regulatory action meets both criteria, the Agency must evaluate the environmental health or safety effects of the planned rule on children, and explain why the planned regulation is preferable to other potentially effective and reasonably feasible alternatives considered by the Agency.

The EPA interprets Executive Order 13045 as applying only to those regulatory actions that are based on health or safety risks, such that the analysis required under section 5-501 of the Order has the potential to influence the regulation. This final rule is not subject to Executive Order 13045 because it approves a State program.

D. Executive Order 13084

Under Executive Order 13084, EPA may not issue a regulation that is not required by statute, that significantly or uniquely affects the communities of Indian tribal governments, and that imposes substantial direct compliance costs on those communities, unless the Federal government provides the funds necessary to pay the direct compliance costs incurred by the tribal governments, or EPA consults with those governments. If EPA complies by consulting, Executive Order 13084 requires EPA to provide to the OMB, in a separately identified section of the preamble to the rule, a description of the extent of EPA's prior consultation with representatives of affected tribal governments, a summary of the nature of their concerns, and a statement supporting the need to issue the regulation. In addition, Executive Order 13084 requires EPA to develop an effective process permitting elected officials and other representatives of Indian tribal governments “to provide meaningful and timely input in the development of regulatory policies on matters that significantly or uniquely affect their communities.”

Today's rule does not significantly or uniquely affect the communities of Indian tribal governments. This action does not involve or impose any requirements that affect Indian tribes. Accordingly, the requirements of section 3(b) of Executive Order 13084 do not apply to this rule.

E. Regulatory Flexibility Act

The Regulatory Flexibility Act, 5 U.S.C. 600 et seq., generally requires an agency to conduct a regulatory flexibility analysis of any rule subject to notice and comment rulemaking requirements unless the agency certifies that the rule will not have a significant economic impact on a substantial number of small entities. Small entities include small businesses, small not-for-profit enterprises, and small governmental jurisdictions. This final rule will not have a significant impact on a substantial number of small entities because SIP approvals under section 110 and subchapter I, part D of the Act do not create any new requirements but simply approve requirements that the State is already imposing. Therefore, because the Federal SIP approval does not create any new requirements, I certify that this action will not have a significant economic impact on a substantial number of small entities. Moreover, due to the nature of the Federal-State relationship under the Act, preparation of a flexibility analysis would constitute Federal inquiry into the economic reasonableness of state action. The Act forbids EPA to base its actions concerning SIPs on such grounds. See Union Electric Co. v. U.S. EPA, 427 U.S. 246, 255-66 (1976); 42 U.S.C. 7410(a)(2).

F. Unfunded Mandates

Under section 202 of the Unfunded Mandates Reform Act of 1995, signed into law on March 22, 1995, EPA must prepare a budgetary impact statement to accompany any proposed or final rule that includes a Federal mandate that may result in estimated annual costs to State, local, or tribal governments in the aggregate; or to private sector, of $100 million or more. Under section 205, EPA must select the most cost-effective and least burdensome alternative that achieves the objectives of the rule and is consistent with statutory requirements. Section 203 requires EPA to establish a plan for informing and advising any small governments that may be significantly or uniquely impacted by the rule.

The EPA has determined that the approval action promulgated does not include a Federal mandate that may result in estimated annual costs of $100 million or more to either State, local, or tribal governments in the aggregate, or to the private sector. This Federal action approves pre-existing requirements under State or local law, and imposes no new requirements. Accordingly, no additional costs to State, local, or tribal governments, or to the private sector, result from this action.

G. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. The EPA will submit a report containing this rule and other required information to the U.S. Senate, the U.S. House of Representatives, and the Comptroller General of the United States prior to publication of the rule in the Federal Register. A major rule cannot take effect until 60 days after it is published in the Federal Register. This action is not a “major” rule as defined by 5 U.S.C. 804(2). This rule will be effective June 5, 2000.

H. Petitions for Judicial Review

Under section 307(b)(1) of the Act, petitions for judicial review of this action must be filed in the United States Court of Appeals for the appropriate circuit by June 5, 2000. Filing a petition for reconsideration by the Administrator of this final rule does not affect the finality of this rule for the purposes of judicial review nor does it extend the time within which a petition for judicial review may be filed, and shall not postpone the effectiveness of such rule or action. This action may not be challenged later in proceedings to enforce its requirements. See section 307(b)(2) of the Act.

List of Subjects in 40 CFR Part 52

Environmental protection, Air pollution control, Intergovernmental relations, Ozone, Reporting and recordkeeping requirements, Volatile organic compounds.

Dated: March 21, 2000.
Lynda F. Carroll,
Acting Regional Administrator, Region 6.

Part 52, chapter I, title 40 of the Code of Federal Regulations is amended as follows:

PART 52—[AMENDED]

1. The authority citation for Part 52 continues to read as follows:

Authority: 42 U.S.C. 7401 et seq.

Subpart SS—Texas

2. In § 52.2270 the table in paragraph (c) is amended under Chapter 115 by:

a. Removing the entries for “115.121-115.129” and “115.442-115.449.”

b. Adding in numerical order entries for sections 115.121, 115.122, 115.123, 115.125, 115.126, 115.127, 115.129, 115.440, 115.443, 115.446, and 115.449 as RACT for the D/FW area.

c. Add the heading “Vent Gas Control” above the entry for section 115.121 under the column “Title/Subject”; and add the heading “Offset Lithographic Printing” above the entry for Section 115.440 under the column “Title/Subject”.

The removal and additions read as follows:

§ 52.2270 Identification of plan.

* * * * *

(c) * * *

EPA Approved Regulations in the Texas SIP
State citation | Title/subject | State submittal/approval date | EPA approval date | Explanation
* * * * * * *
Chapter 115 (Regulation 5)—Control of Air Pollution from Volatile Organic Compounds
* * * * * * *
Vent Gas Control
Section 115.121 | Emission Specifications | March 21, 1999 | April 6, 2000 | Ref—52.2270(c)(104), Approved as RACT for the D/FW 1-hr ozone area only.
Section 115.122 | Control Requirements | March 21, 1999 | April 6, 2000 | Ref—52.2270(c)(104), Approved as RACT for the D/FW 1-hr ozone area only.
Section 115.123 | Alternate Control Requirements | March 21, 1999 | April 6, 2000 | Ref—52.2270(c)(104), Approved as RACT for the D/FW 1-hr ozone area only.
Section 115.125 | Testing Requirements | March 21, 1999 | April 6, 2000 | Ref—52.2270(c)(104), Approved as RACT for the D/FW 1-hr ozone area only.
Section 115.126 | Monitoring and Recordkeeping Requirements | March 21, 1999 | April 6, 2000 | Ref—52.2270(c)(104), Approved as RACT for the D/FW 1-hr ozone area only.
Section 115.127 | Exemptions | March 21, 1999 | April 6, 2000 | Ref—52.2270(c)(104), Approved as RACT for the D/FW 1-hr ozone area only.
Section 115.129 | Counties and Compliance Schedule | March 21, 1999 | April 6, 2000 | Ref—52.2270(c)(104), Approved as RACT for the D/FW 1-hr ozone area only.
* * * * * * *
Offset Lithographic Printing
Section 115.440 | Definitions | March 21, 1999 | April 6, 2000 | New.
* * * * * * *
Section 115.443 | Alternate Control Requirements | March 21, 1999 | April 6, 2000 | Ref—52.2270(c)(104), 52.2270(c)(105) (i)(P), Approved as RACT for the D/FW 1-hr ozone area only.
* * * * * * *
Section 115.446 | Monitoring and Recordkeeping Requirements | March 21, 1999 | April 6, 2000 | Ref—52.2270(c)(104), 52.2270(c)(105) (i)(P), Approved as RACT for the D/FW 1-hr ozone area only.
Section 115.449 | Counties and Compliance Schedules | March 21, 1999 | April 6, 2000 | Ref—52.2270(c)(104), 52.2270(c)(105) (i)(P), Approved as RACT for the D/FW 1-hr ozone area only.
* * * * * * *

[FR Doc. 00-7732 Filed 4-5-00; 8:45 am]

BILLING CODE 6560-50-U